FEDERAL COMMUNICATIONS COMMISSION

47 CFR Part 73

[DA 00-1112; MM Docket No. 94-70; RM-8474 and RM-8706]

Radio Broadcasting Services; Moncks Corner, Kiawah Island, and Sampit, SC

AGENCY: Federal Communications Commission.

ACTION: Final rule; petition for reconsideration.

SUMMARY: This Memorandum Opinion and Order partially grants two petitions for reconsideration of a Report and Order, 61 FR 42228 (August 14, 1996), and overturns that Report and Order. The document admits new evidence presented by Sampit Broadcasters (“SB”) and L.M. Communications II of South Carolina, Inc. (“LMC”) that demonstrates the availability of a transmitter site for LMC and that Sampit, South Carolina is a “community” for allotment purposes. Since both rulemaking proponents were found to be qualified to effectuate their mutually exclusive proposals, the proposals were compared to determine the winner. LMC's proposal to substitute Channel 288C2 for Channel 287C3 at Moncks Corner, South Carolina, reallot Channel 288C2 from Moncks Corner to Kiawah Island, South Carolina, and modify Station WNST(FM)'s license accordingly was preferred over SB's proposal to allot Channel 289A to Sampit, South Carolina. The new coordinates for LMC's transmitter site at Kiawah Island are: 32-38-57 NL and 80-02-11 WL.

DATES: Effective July 3, 2000.

FOR FURTHER INFORMATION CONTACT: R. Barthen Gorman, Mass Media Bureau, (202) 418-2180.

SUPPLEMENTARY INFORMATION: This is a synopsis of the Commission's Memorandum Opinion and Order, MM Docket No. 94-70, adopted May 10, 2000, and released May 19, 2000. The full text of this Commission decision is available for inspection and copying during normal business hours in the FCC's Reference Information Center at Portals II, CY-A257, 445 12th Street, SW, Washington, DC. The complete text of this decision may also be purchased from the Commission's copy contractors, International Transcription Service, Inc., (202) 857-3800, located at 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, and 336.

§ 73.202 [AMENDED]

2. Section 73.202(b), the Table of FM Allotments under South Carolina, is amended by removing Moncks Corner, Channel 287C3 and adding Kiawah Island, Channel 288C2.

Federal Communications Commission.
John A. Karousos,
Chief, Allocations Branch, Policy and Rules Division, Mass Media Bureau.

[FR Doc. 00-13701 Filed 6-2-00; 8:45 am]

BILLING CODE 6712-01-U